DEPARTMENT OF HOMELAND SECURITY

[Docket No. DHS-2014-0012]

Public Review of Patient Decontamination in a Mass Chemical Exposure Incident: National Planning Guidance for Communities

AGENCY: Office of Health Affairs, Department of Homeland Security.

ACTION: Notice and request for comments.

SUMMARY: The Chemical Defense Program (CDP), under the Department of Homeland Security Office of Health Affairs (OHA), and Office of the Assistant Secretary for Preparedness and Response (ASPR), under the Department of Health and Human Services (HHS), are seeking public comment on a document titled “Patient Decontamination in a Mass Chemical Exposure Incident: National Planning Guidance for Communities.”

DATES: Submit the completed comment matrix on or before May 19, 2014.

ADDRESSES: Comments may be submitted, identified by docket number DHS-2014-0012, by one of the following methods:

• Federal e-Rulemaking Portal: http://www.regulations.gov.

Instructions: All submissions received must include the words “Department of Homeland Security and docket number for this rulemaking. All comments received will be posted without change to http://www.regulations.gov, including any personal information provided.

Docket: For access to the docket to read background documents or comments received, please visit http://www.regulations.gov and type the docket number (DHS-2014-0012) into the “SEARCH for: Rules, Comments, Adjudications or Supporting Documents:” field in the middle of the Web site.

SUPPLEMENTARY INFORMATION: This guidance document is developed for senior leaders, planners, incident commanders, emergency management personnel and trainers of local response organizations and health care facilities; it contains strategic-level, evidence-based best practices for use when planning and conducting patient decontamination in a mass chemical casualty event. The subject matter is focused on external decontamination of living people exposed to toxic industrial chemicals (TICs), toxic industrial materials (TIMs) or chemical warfare agents (CWAs) resulting from either an intentional or accidental release. The guidance document provides an approach that is flexible and scalable according to the resource and capability limitations of the organization. The recommendations, therefore, are adaptable to each unique community as it sees fit. The principals set forth in this guidance document are strategic-level and designed to guide communities' planning efforts rather than specify operational practices. The guidance is evidence-based using currently available scientific research to the extent possible, and the supporting evidence is documented and briefly discussed.

FOR FURTHER INFORMATION CONTACT: Dhs.oha.cdp@hq.dhs.gov

Dated: March 21, 2014.
Mark A. Kirk,
Director, Chemical Defense Program.

[FR Doc. 2014-07392 Filed 4-1-14; 8:45 am]

BILLING CODE 9110-9K-P